FEDERAL COMMUNICATIONS COMMISSION

47 CFR Part 73

[MB Docket No. 03-44, RM-10650, RM-11396, DA 14-1254]

Radio Broadcasting Services; Noyack and Water Mill, New York

AGENCY: Federal Communications Commission.

ACTION: Final rule; application for review.

SUMMARY: The Audio Division approves the withdrawal of an Application for Review filed by Sacred Heart University (“SHU”), licensee of noncommercial educational Station WSUF(FM), Noyack, New York. See also Supplementary Information.

DATES: Effective September 15, 2014.

FOR FURTHER INFORMATION CONTACT: Andrew J. Rhodes, Media Bureau, (202) 418-2700.

SUPPLEMENTARY INFORMATION: This is a synopsis of the Commission's Order, MB Docket No. 03-44; DA 14-1254, adopted August 28, 2014, and released August 29, 2014. The full text of this Commission decision is available for inspection and copying during normal business hours in the FCC Reference Information Center (Room CY-A257), 445 12th Street SW., Washington, DC. The complete text of this decision may also be purchased from the Commission's copy contractor, Best Copy and Printing, Inc., Portals II, 445 12th Street SW., Room CY-B402, Washington, DC 20054, telephone 1-800-378-3160 or www.BCPIWEB.com.

SHU sought review of the Reconsideration Decision in this proceeding that had dismissed its Counterproposal. See 73 FR 52213 (September 9, 2008). The Audio Division approves the withdrawal request because it will resolve a proceeding that has been pending for ten years. The withdrawal complies with section 1.420(j) of the Commission's rules.

Federal Communications Commission.
Peter H. Doyle,
Chief, Audio Division, Media Bureau.

[FR Doc. 2014-21988 Filed 9-12-14; 8:45 am]

BILLING CODE 6712-01-P